DEPARTMENT OF COMMERCE

International Trade Administration

[A-489-815]

Light-Walled Rectangular Pipe and Tube From Turkey: Final Results of Antidumping Duty Administrative Review; 2013-2014

AGENCY: Enforcement and Compliance, International Trade Administration, Department of Commerce.

SUMMARY: On April 22, 2015, the Department of Commerce (the Department) published the preliminary results of the administrative review of the antidumping duty order on light-walled rectangular pipe and tube from Turkey.¹ The review covers ÇINAR Boru Profil Sanayi ve Ticaret A.Ş. (CINAR). The period of review (POR) is May 1, 2013, through April 30, 2014. We invited interested parties to comment on our Preliminary Results. CINAR submitted a case brief on May 22, 2015.² Based on CINAR's comments, we made certain changes to our Preliminary Results. The final results are listed in the section entitled “Final Results of Review” below.

¹ See Light-Walled Rectangular Pipe and Tube from Turkey; Preliminary Results of Antidumping Duty Administrative Review; 2013-2014, 80 FR 22475 (April 22, 2015) (Preliminary Results).

² See letter from CINAR to the Secretary of Commerce entitled, “Case Brief of ÇINAR Boru Profil Sanayi ve Ticaret A.Ş. (“CINAR”) to the Preliminary Determination on the Administrative Review on Light-Walled Rectangular Pipe and Tube (LWRP) from Turkey,” dated May 22, 2015.

DATES: Effective Date: August 5, 2015.

FOR FURTHER INFORMATION CONTACT: Mark Flessner or Robert M. James,AD/CVD Operations Office VI, Enforcement and Compliance, International Trade Administration, U.S. Department of Commerce, 14th Street and Constitution Avenue NW., Washington, DC 20230; telephone: (202) 482-6312 or (202) 482-0649, respectively.

SUPPLEMENTARY INFORMATION:

Background

On April 22, 2015, the Department published the Preliminary Results of this review in the Federal Register. We invited parties to comment on the Preliminary Results. CINAR submitted a case brief. No other party submitted case or rebuttal briefs. No party requested a hearing.

Scope of the Order

The merchandise subject to this order ³ is certain welded carbon-quality light-walled steel pipe and tube, of rectangular (including square) cross section, having a wall thickness of less than 4 mm.⁴

³ See Notice of Antidumping Duty Order: Light-Walled Rectangular Pipe and Tube From Turkey, 73 FR 31065 (May 30, 2008).

⁴ For a full description of the scope of the order, see the memorandum from Christian Marsh, Deputy Assistant Secretary for AD/CVD Operations, to Paul Piquado, Assistant Secretary for Enforcement and Compliance, entitled, “Issues and Decision Memorandum for the Final Results in the Antidumping Duty Administrative Review of Light-Walled Rectangular Pipe and Tube from Turkey; 2013-2014,” dated concurrently with this notice (Issues and Decision Memorandum).

Analysis of Comments Received

All issues raised in the case brief submitted in this review are addressed in the Issues and Decision Memorandum which is hereby adopted with this notice. A list of the issues raised is attached to this notice as Appendix I. The Issues and Decision Memorandum is a public document and is on file electronically via Enforcement and Compliance's Antidumping and Countervailing Duty Centralized Electronic Service System (ACCESS). ACCESS is available to registered users at http://iaaccess.trade.gov and it is available to all parties in the Central Records Unit, room B8024 of the main Department of Commerce building. In addition, a complete version of the Issues and Decision Memorandum can be accessed directly at http://enforcement.trade.gov/frn/index.html. The signed and electronic versions of the Issues and Decision Memorandum are identical in content.

Changes Since the Preliminary Determination

Based on our analysis of the comments received, we made certain changes to the Preliminary Results. For a discussion of these changes, see Issues and Decision Memorandum.

Final Results of Review

The estimated weighted-average dumping margin for the period May 1, 2013, through April 30, 2014, is as follows:

Producer/exporter | Weighted average margin (percentage)
ÇINAR Boru Profil Sanayi ve Ticaret AŞ | 0.00

Assessment

The Department shall determine, and U.S. Customs and Border Protection (CBP) shall assess, antidumping duties on all appropriate entries, in accordance with 19 CFR 351.212(b)(1). The Department intends to issue appropriate assessment instructions for the companies subject to this review to CBP 15 days after the date of publication of these final results.

CINAR's weighted-average dumping margin in these final results is zero percent. Therefore, we will instruct CBP to liquidate all appropriate entries without regard to antidumping duties.

Cash Deposit Requirements

The following deposit rates will be effective upon publication of the final results of this administrative review for all shipments of light-walled rectangular pipe and tube from Turkey entered, or withdrawn from warehouse, for consumption on or after the publication date, as provided by section 751(a)(2)(C) of the Act: (1) For ÇINAR Boru Profil Sanayi ve Ticaret A.Ş., the cash deposit rate will be equal to the weighted-average dumping margin listed above; (2) for previously reviewed or investigated companies not listed above, the cash deposit rate will continue to be the company-specific rate published for the most recently completed segment of this proceeding in which that manufacturer or exporter participated; (3) if the exporter is not a firm covered in this review, a prior review, or the original LTFV investigation, but the producer is, the cash deposit rate will be the rate established for the most recently completed segment of this proceeding for the producer of the merchandise; and (4) if neither the exporter nor the producer is a firm covered in this review, any previous review, or the original investigation, the cash deposit rate will be 27.04 percent ad valorem, the “all others” rate established in the LTFV investigation. These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order Notification to Interested Parties

This notice serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

This administrative review and notice are issued and published in accordance with sections 751(a)(1) and 777(i)(1) of the Act and 19 CFR 351.213(h)(1).

Dated: July 27, 2015.
Paul Piquado,
Assistant Secretary for Enforcement and Compliance.

Appendix I—List of Issues Raised in Case and Rebuttal Briefs

Summary

Background

Scope of the Order

Discussion of the Issue

Issue 1: Use of CINAR's Revised Home Market Data Base Conclusion

[FR Doc. 2015-19095 Filed 8-4-15; 8:45 am]

BILLING CODE 3510-DS-P